DEPARTMENT OF COMMERCE

National Institute of Standards and Technology

[Docket No: 131113954-3954-01]

Request for Public Comments on Draft Final Report on the Technical Investigation of the May 22, 2011 Tornado in Joplin, Missouri

AGENCY: National Institute of Standards and Technology, United States Department of Commerce.

ACTION: Notice; request for comment.

SUMMARY: The Director of the National Institute of Standards and Technology (NIST), United States Department of Commerce, announces the availability for public comment of the draft final report of the investigation conducted by NIST into the tornado that impacted Joplin, Missouri on May 22, 2011. NIST will consider all comments received on the draft report before it is issued in final form.

DATES: Comments on the draft report must be received no later than 5:00 p.m. ET, Monday, January 6, 2014.

ADDRESSES: An electronic copy of the draft report may be found on the Joplin Investigation Web page http://www.nist.gov/el/disasterstudies/weather/joplin_tornado_2011.cfm. Comments may be submitted by email to disaster@nist.gov or by mail to: NIST Technical Investigation Joplin, National Institute of Standards and Technology, Stop 8611, Gaithersburg, MD 20899-8611.

All comments received will be posted without redaction on the NIST Web site at: http://www.nist.gov/el/disasterstudies/weather/joplin_tornado_2011.cfm.

FOR FURTHER INFORMATION CONTACT: For further information or if you have questions, please contact Dr. Long Phan by email at disaster@nist.gov or by telephone at 301-975-6077.

SUPPLEMENTARY INFORMATION: In response to the tornado that impacted Joplin, Missouri on May 22, 2011 (Joplin tornado), the National Institute of Standards and Technology (NIST) sent four engineers to the area to conduct a preliminary reconnaissance to conduct an initial assessment of the event to assist the NIST Director in determining whether a full technical investigation of the event was warranted. Based on the analysis of the data collected and other pertinent information, the NIST Director established a Team under the authorities of the National Construction Safety Team (NCST) Act (15 U.S.C. 7301 et seq.) on June 29, 2011 to conduct a detailed technical investigation. The establishment of the NCST Team was announced in the Federal Register on July 19, 2011 (76 FR 42683).

The investigation objectives were:

1. Determine the tornado hazard characteristics and associated wind fields in the context of historical data.

2. Determine the response of residential, commercial, and critical buildings, including the performance of designated safe areas.

3. Determine the performance of lifelines as it relates to the continuity of operations of residential, commercial, and critical buildings.

4. Determine the pattern, location, and cause of fatalities and injuries, and associated emergency communications and public response.

5. Identify, as specifically as possible, areas in current building, fire, and emergency communications codes, standards, and practices that warrant revision.

The draft report outlines 47 findings related to the May 22, 2011, Joplin tornado and concludes with a list of 16 recommendations for action in areas of improved measurement and characterization of tornado hazards, new methods for tornado resistant design of buildings, enhanced guidance for community tornado sheltering, and improved and standardized emergency communications.

Request for Public Comment: Persons interested in commenting on the draft investigation report should submit their comments as instructed above. NIST will consider all comments received and may revise the report based on such comments. All comments will be made publicly available without redaction, so the public should not include personal or proprietary information in comments. All comments received in response to this notice will be made publicly available without redaction, so members of the public should not include personal or proprietary information in comments.

Comments submitted should be specific to the maximum extent possible: they should clearly state the issue, location (page number, paragraph or sentence), provide a short reason for any suggested change, and provide suggested language for the requested revision.

Comments may be submitted to NIST in two ways. Comments may be submitted by email to disaster@nist.gov, or by mail to:

NIST Technical Investigation Joplin, National Institute of Standards and Technology, Stop 8611, Gaithersburg, MD 20899-8611.

All comments should contain the following information:

Name (Optional):

Affiliation (Optional):

Contact (Optional): Phone number or email address where the commenter can be contacted in case of questions about their comment

Page Number:

Paragraph/Sentence: (e.g., paragraph 2/sentences 2-4)

Comment:

Reason for Comment:

Suggestion for Revision:

Dated: November 26, 2013.
Mary Saunders,
Associate Director for Management Resources.

[FR Doc. 2013-28946 Filed 12-2-13; 8:45 am]

BILLING CODE 3510-13-P